DEPARTMENT OF TRANSPORTATION

Federal Aviation Administration

14 CFR Part 95

[Docket No. 31345; Amdt. No. 556]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, December 31, 2020.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on November 25, 2020.
Wade Terrell,
Aviation Safety, Manager, Flight Procedures & Airspace Group, Flight Technologies and Procedures Division.

Adoption of the Amendment

Accordingly, pursuant to the authority delegated to me by the Administrator, part 95 of the Federal Aviation Regulations (14 CFR part 95) is amended as follows effective at 0901 UTC, December 31, 2020.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 556 effective date December 31, 2020]
FROM | TO | MEA
Color Routes
§ 95.10 Amber Federal Airway A1 is Amended to Delete
ORCA BAY, AK NDB | CAMPBELL LAKE, AK NDB | * 9000
* 8300—MOCA
CAMPBELL LAKE, AK NDB | TAKOTNA RIVER, AK NDB | * 10000
* 9500—MOCA
§ 95.107 Amber Federal Airway A7 is Amended to Delete
CAMPBELL LAKE, AK NDB | MINERAL CREEK, AK NDB | 10000
| COP 069 CMQ
§ 95.51 Green Federal Airway G11 is Amended to Delete
CAMPBELL LAKE, AK NDB | GLENNALLEN, AK NDB | 10000
GLENNALLEN, AK NDB | NABESNA, AK NDB | 10000

FROM | TO | MEA | MAA
§ 95.3000 Low Altitude RNAV Routes
§ 95.3301 RNAV Route T301 is Added to Read
CAPE GIRARDEAU, MO DME | CENTRALIA, IL VORTAC | 3500 | 17500
CENTRALIA, IL VORTAC | TYMME, IL WP | 2400 | 17500
TYMME, IL WP | SPINNER, IL VORTAC | 2500 | 17500
SPINNER, IL VORTAC | PEORIA, IL VORTAC | 2400 | 17500
§ 95.3305 RNAV Route T305 is Added to Read
CAPE GIRARDEAU, MO DME | AMART, IL WP | 3300 | 17500
AMART, IL WP | TYMME, IL WP | 2400 | 17500
TYMME, IL WP | DELCO, IL FIX | 2400 | 17500
DELCO, IL FIX | JIBKA, IN WP | 2400 | 17500

FROM | TO | MEA
§ 95.6001 Victor Routes—U.S
§ 95.6063 VOR Federal Airway V63 is Amended to Delete
BOWIE, TX VORTAC | TEXOMA, OK VOR/DME | 3000
§ 95.6154 VOR Federal Airway V154 is Amended to Read in Part
OCONE, GA FIX | * LOTTS, GA FIX | #
*11000—MRA
#UNUSABLE
§ 95.6157 VOR Federal Airway V157 is Amended to Read in Part
ALMA, GA VORTAC | * LOTTS, GA FIX | **10000
*11000—MRA
*11000—MCA LOTTS, GA FIX, NE BND
**2000—GNSS MEA
LOTTS, GA FIX | ALLENDALE, SC VOR | *11000
*1800—MOCA
*2000—GNSS MEA
§ 95.6289 VOR Federal Airway V289 is Amended to Read in Part
TEXARKANA, AR VORTAC | *PROVO, AR FIX
N BND |  | 4300
S BND |  | 2200
*4500—MRA
PROVO, AR FIX | UMPIR, AR FIX
N BND |  | *4300
S BND |  | *3900
*3400—MOCA
§ 95.6427 Alaska VOR Federal Airway V427 is Amended to Read in Part
* KING SALMON, AK VORTAC | TOMMY, AK FIX
SW BND |  | **3000
NE BND |  | **16000
*7200—MCA | KING SALMON, AK VORTAC, NE BND
**3000—GNSS MEA
TOMMY, AK FIX NUTUW, AK FIX
SW BND |  | *7000
NE BND |  | *16000
*5300—MOCA
*6000—GNSS MEA
NUTUW, AK FIX | RINGO, AK FIX
SW BND |  | *9000
NE BND |  | *16000
*5300—MOCA
*6000—GNSS MEA
RINGO, AK FIX | * NONDA, AK FIX | **16000
*16000—MCA NONDA, AK FIX, SW BND
**9000—MOCA
**9000—GNSS MEA
§ 95.6456 Alaska VOR Federal Airway V456 is Amended to Read in Part
*KING SALMON, AK VORTAC | STREW, AK FIX
SW BND |  | **3000
NE BND |  | **11000
*5400—MCA KING SALMON, AK VORTAC, NW BND
**2300—MOCA
STREW, AK FIX | BITOP, AK FIX
SW BND |  | *5000
NE BND |  | *11000
*5000—MOCA
*6000—GNSS MEA
BITOP, AK FIX | * NOSKY, AK FIX | **11000
*15000—MCA NOSKY, AK FIX, NE BND
**5900—MOCA
**6000—GNSS MEA
NOSKY, AK FIX | * TUCKS, AK FIX | **15000
*10300—MCA TUCKS, AK FIX, SW BND
**12300—MOCA
**13000—GNSS MEA

FROM | TO | MEA | MAA
§ 95.7001 Jet Routes
§ 95.7227 Jet Route J227 is Amended to Read in Part
ARMEL, VA VOR/DME | ELMIRA, NY VOR/DME | #18000 | 23000
#ARMEL R-009 UNUSABLE BYD 74 NM
ELMIRA R-205 UNUSABLE BYD 73 NM

Airway Segment: FROM | Airway Segment: TO | Changeover Points: DISTANCE | Changeover Points: FROM
§ 95.8003 VOR Federal Airway Changeover Point
V157 is Amended to Add Changeover Point
ALMA, GA VORTAC | ALLENDALE, SC VOR | 58 | ALMA
J8 is Amended to Modify Changeover Point
GALLUP, NM VORTAC | FORT UNION, NM VORTAC | 103 | GALLUP
J19 is Amended to Modify Changeover Point
BUKKO, NM FIX | FORT UNION, NM VORTAC | 80 | BUKKO

[FR Doc. 2020-26551 Filed 12-17-20; 8:45 am]

BILLING CODE 4910-13-P